DEPARTMENT OF THE TREASURY

Submission for OMB Review; Comment Request

September 29, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before November 8, 2004 to be assured of consideration.

Alcohol and Tobacco Tax and Trade Bureau (TTB)

OMB Number: 1513-0025.

Form Number: TTB F 5200.

Type of Review: Reinstatement.

Title: Notice of Release of Tobacco Products, Cigarette Papers, or Cigarette Tubes.

Description: The form documents releases of tobacco products and cigarette papers and tubes from customs custody and returns of each article to a manufacturer or export warehouse shipment for use in the United States. The form is also used to ensure compliance with laws and regulations at the time of transactions and for post audit examination.

Respondents: Business of other for-profit.

Estimated Number of Respondents: 153.

Estimated Burden Hours per Respondent: 15 minutes.

Frequency of Response: On occasion.

Estimated Total Reporting Burden: 306 hours.

OMB Number: 1513-0058.

Recordkeeping Requirement ID Number: TTB REC 5130/1.

Type of Review: Reinstatement.

Title: Usual and Customary Business Records Maintained by Brewers.

Description: TTB audits brewers' records to verify production of beer and cereal beverage and to verify the quantity of beer removed subject to tax and removed without payment of tax.

Respondents: Business of other for-profit.

Estimated Number of Respondents: 1,400

Estimated Burden Hours per Respondent: 1 hour.

Frequency of Response: On occasion.

Estimated Total Reporting Burden: 1 hour.

OMB Number: 1513-0110.

Form Number: None.

Type of Review: Reinstatement.

Title: Recordkeeping for Tobacco Products Removed in Bond from Manufacturers Premises for Experimental Purposes—27 CFR 270.232(d).

Description: The prescribed records apply to manufacturers who ship tobacco products in bond for experimental purposes. TTB can examine these records to determine that the proprietor has complied with law and regulations that allow such tobacco products to be shipped in bond for experimental purposes without payment of the excise tax.

Respondents: Business of other for-profit.

Estimated Number of Respondents: 165.

Estimated Burden Hours per Respondent: 1 hour.

Frequency of Response: On occasion.

Estimated Total Reporting Burden: 1 hour.

Clearance Officer: William H. Foster, Alcohol and Tobacco Tax and Trade Bureau, Room 200 East, 1310 G. Street, NW., Washington, DC 20005, (202) 927-8210.

OMB Reviewer: Joseph F. Lackey, Jr., Office of Management and Budget, Room 10235, New Executive Office Building, Washington, DC 20503, (202) 395-7316.

Lois K. Holland,
Treasury PRA Clearance Officer.

[FR Doc. 04-22732 Filed 10-7-04; 8:45 am]

BILLING CODE 4810-31-P